DEPARTMENT OF TRANSPORTATION

Office of the Secretary

Aviation Proceedings, Agreements Filed During Week Ending June 15, 2001

The following Agreements were filed with the Department of Transportation under provisions of 49 U.S.C. 412 and 414. Answers may be filed within 21 days after the filing of the applications.

Docket Number: OST-2001-9941.

Date Filed: June 14, 2001.

Parties: Members of the International Air Transport Association.

Subject: PTC31 South 0111 dated 15 June 2001 r1-r5; PTC31 South 0110 dated 8 June 2001 (Report); PTC31 South Fares 0027 dated 15 June 2001 (Tables); Intended effective date: October 1, 2001.

Andrea M. Jenkins,
Federal Register Liaison.

[FR Doc. 01-16180 Filed 6-26-01; 8:45 am]

BILLING CODE 4910-62-P